SURFACE TRANSPORTATION BOARD

[Docket No. FD 36794]

Colorado Pacific San Luis Railroad LLC—Acquisition and Operation Exemption—San Luis Central Railroad Company

Colorado Pacific San Luis Railroad LLC (CXSL), a noncarrier, has filed a verified notice of exemption pursuant to 49 CFR 1150.31 to acquire and operate a line of railroad owned by the San Luis Central Railroad Company (SLC). The track extends 13 miles from milepost 2.0 at Sugar Junction, east of Monte Vista, Colo. (connecting at approximately milepost 269.0 of the main line of the Colorado Pacific Rio Grande Railroad, LLC), to the end of the track at milepost 15.0 near Center, Colo. (the Line). The Line comprises all of SLC's railroad system and assets. Upon this exemption becoming effective, CXSL will become a Class III rail carrier and assume all of SLC's common carrier obligations to service the customers located along the Line.

According to the verified notice, the owners of SLC and Soloviev Investors, LLC (Soloviev Investors) executed an Asset Purchase Agreement (APA) on July 26, 2024, whereby the track assets and certain other assets of SLC are to be sold to Soloviev Investors or “its permitted assignee.” CXSL states that Soloviev Investors assigned all of its rights in the APA to CXSL on July 31, 2024.

The transaction may be consummated on or after September 22, 2024, the effective date of the exemption (30 days after the verified notice was filed).

This transaction is related to a concurrently filed petition for exemption in Stefan Soloviev, Executor, the Estate of Sheldon H. Solow—Continuance in Control Exemption—Colorado Pacific San Luis Railroad, Docket No. FD 36795, in which the Estate of Sheldon H. Solow (the Estate), a noncarrier, seeks to continue in control of CXSL upon CXSL becoming a Class III rail carrier.¹

¹ The Estate indicates that because the acquisition transaction may close prior to the Board's issuance of a decision on the Estate's continuance in control petition, the Estate will, if necessary, enter into a voting trust agreement pursuant to 49 CFR part 1013. See 49 CFR 1013.3(b) (“Any person who establishes an independent trust for the receipt of the voting stock of [a] carrier must file a copy of the trust, along with any auxiliary or modifying documents, with the Board.”).

CXSL certifies that its projected annual revenues will not exceed $5 million and will not result in CXSL becoming a Class II or Class I rail carrier. CXSL also certifies that the APA does not create any interchange commitments as that term is defined by 49 CFR 1150.33(h).

If the verified notice contains false or misleading information, the exemption is void ab initio. Petitions to revoke the exemption under 49 U.S.C. 10502(d) may be filed at any time. The filing of a petition to revoke will not automatically stay the effectiveness of the exemption. Petitions for stay must be filed no later than September 13, 2024 (at least seven days before the exemption becomes effective).

All pleadings, referring to Docket No. FD 36794, must be filed with the Surface Transportation Board either via e-filing on the Board's website or in writing addressed to 395 E Street SW, Washington, DC 20423-0001. In addition, a copy of each pleading must be served on CXSL's representative, Thomas W. Wilcox, Law Office of Thomas W. Wilcox, LLC, 1629 K Street NW, Suite 300, Washington, DC 20006.

According to CXSL, this action is categorically excluded from environmental review under 49 CFR 1105.6(c) and from historic preservation reporting requirements under 49 CFR 1105.8(b).

Board decisions and notices are available at www.stb.gov.

Decided: September 3, 2024.
By the Board, Valerie O. Quinn, Acting Director, Office of Proceedings.
Kenyatta Clay,
Clearance Clerk.

[FR Doc. 2024-20147 Filed 9-5-24; 8:45 am]

BILLING CODE 4915-01-P